DEPARTMENT OF HEALTH AND HUMAN SERVICES

Health Resources and Services Administration

[CFDA Number 93.110B]

Maternal and Child Health Federal Set-Aside Program; Special Projects of Regional and National Significance; Comprehensive Hemophilia Diagnostic and Treatment Centers; Regional Project Grant

AGENCY: Health Resources and Services Administration, HHS.

ACTION: Notice of availability of funds.

SUMMARY: The Health Resources and Services Administration (HRSA) announces that $360,000 in fiscal year (FY) 2003 funds is available to fund one grant to establish a regional network of hemophilia treatment centers (HTCs) in the Maternal and Child Health Bureau Hemophilia Program, Region IV North (Kentucky, North Carolina, South Carolina, and Tennessee) to provide comprehensive care for people with hemophilia and other congenital bleeding disorders and their families in the diagnosis and treatment of hemophilia and other bleeding disorders. This grant will be awarded for a 2-year period, subject to satisfactory progress and the availability of funds.

DATES: Applications must be received in the HRSA Grant Application Center (GAC) at the address below by the close of business, May 8, 2003. Applications will meet the deadline if they are either: (1) Received on or before the deadline date; or (2) postmarked on or before the deadline date, and received in time for submission to the objective review panel. A legible, dated receipt from a commercial carrier or U.S. Postal Service will be accepted instead of a postmark. Private metered postmarks will not be accepted as proof of timely mailing.

ADDRESSES: To receive a complete application kit, applicants may telephone the HRSA Grants Application Center at 1-877-477-2123 (1-877-HRSA-123) and present the announcement number HRSA 03-084 and announcement code HTC or register on-line at: http://www.mchb.hrsa.gov/grants/. All applications should be mailed or delivered to: Grants Management Officer (MCHB), HRSA Grants Application Center, 901 Russell Avenue, Suite 450, Gaithersburg, Maryland, 20879, telephone: 1-877-HRSA-123 (1-877-477-2123), e-mail: hrsagac@hrsa.gov.

Submission Requirements

Applicants are required to submit one ink-signed hard copy original of the complete application and two hard copies. Additionally, applicants are required to submit a diskette of the abstract.

The HRSA Grants Application Center will send out confirmation of the receipt of the application. If the acknowledgment is not received within 15 days of submitting the application, applicants should contact the HRSA Grants Application Center at 1-877-477-2123 or by e-mail at hrsagac@hrsa.gov to determine the status of the application.

FOR FURTHER INFORMATION CONTACT: Jack Arner, 301-443-1080 (for questions specific to project activities of the program and program objectives); and Theda Duvall, 301-443-1440 (for grants policy, budgetary, and business questions).

SUPPLEMENTARY INFORMATION:

Program Background and Objectives

Hemophilia is a group of hereditary bleeding disorders of specific blood clotting factors classified as hemophilia A and B. Classic hemophilia A is the result of a deficiency of clotting factor VIII; Hemophilia B is a deficiency of clotting factor IX. Approximately 17,000 persons in the United States, primarily males, are affected by hemophilia A or B, the most well known and prevalent of the clotting factor deficiencies. The program also serves individuals with other congenital bleeding disorders including von Willebrand Disease (VWD). It is estimated that up to 4 million individuals in the United States have VWD. VWD, a hereditary bleeding disorder caused by a problem with a protein needed for blood to clot, equally affects men and women.

The National Hemophilia Program was initiated in 1975 and has been since that time funded through Special Projects of Regional and National Significance (SPRANS) under the authority contained in 42 U.S.C. 701(a)(2). Comprehensive hemophilia diagnostic and treatment services are offered through 12 regional grantees, with a network of 135 HTCs located throughout the country. In addition to comprehensive medical services for hemophilia, the HTCs offer a comprehensive array of educational genetic counseling, peer support, and HIV prevention and risk reduction services. Regional services are based upon a regional needs assessment. They include capacity building, communication and information dissemination, regional strategic planning, data collection and analyses, and the coordination of training and technical assistance to affiliated treatment centers, as needed. Services currently being provided through the MCHB Hemophila grant in Region IV—North will end on May 31, 2003 and will require a new grant starting on June 1, 2003.

Authorization

Section 501(a)(2) of the Social Security Act, the MCH Federal Set-Aside Program (42 U.S.C. 701(a)(2)).

Purpose

This grant program supports the provision of comprehensive care (diagnosis and treatment) for people with hemophilia and other congenital bleeding disorders and their families through an integrated regional network of centers for such disorders. This grant will be used to promote in the Maternal and Child Health Bureau Hemophilia Program Region IV North: (1) Comprehensive care to meet the needs including medical, psycho-social, peer support, and genetic testing and counseling of individuals with hemophilia and other congenital bleeding disorders and their families throughout their life time; (2) outreach to unserved and underserved people with congenital bleeding disorders; and (3) collaboration with HTCs within the defined area and promotion of family-centered care within the client population.

The grant also supports the provision of regional coordination and administration including regional services for planning, service coordination and allocation of funds for comprehensive care to ensure those persons with hemophilia and other congenital bleeding disorders and their families have access to high quality care. Regional services should be based upon a regional needs assessment and should include capacity building, communication and information dissemination, regional strategic planning, data collection and analyses, and the coordination of training and technical assistance to affiliated treatment centers, as needed.

Eligibility

Under SPRANS project grant regulations at 42 CFR 51a.3, any public or private entity, including an Indian tribe or tribal organization (as defined at 25 U.S.C. 450b), is eligible to apply for funding covered by this announcement. Faith-based and community-based organizations are eligible to apply for these funds. Preference for funding will be given to applicants having a geographical location within MCHB Hemophilia Region IV-North. Applicants having a geographical location outside of MCHB Hemophilia Region IV-North will receive consideration only if there is no acceptable application received from within MCHB Hemophilia Region IV-North.

Funding Level/Project Period

$360,000 in FY 2003 is available to support the award of one grant with a project period of up to two years. Funding beyond FY 2003 is contingent upon satisfactory performance and the availability of funds.

The applicant will not be required to match or share in project costs if an award is made.

Review Criteria

Applications that are complete and responsive to the guidance will be evaluated by an objective review panel specifically convened for this solicitation and in accordance with applicable policies and procedures. In general, applications for this grant program will be reviewed using the following criteria listed in descending order of priority:

The extent to which the project will contribute to improvement of the health of persons with hemophilia and other congenital bleeding disorders, including the extent to which the project will accomplish a number of specific priorities (described in the project guidance) which are consistent with regulatory review criteria generally applicable to all Title V programs (at 42 CFR 51a.5) and are relevant to the specific project (65 points). This should incorporate the following components:

• Access to comprehensive care for individuals diagnosed with hemophilia and hemophilia/HIV and other congenital bleeding disorders as described in the Current Standards and Criteria for the Care of Persons with Congenital Bleeding Disorders as published by the National Hemophilia Foundation (NHF) which will be made available in the program guidance (25 points);

• Outreach to those not being served by Federally-funded hemophilia treatment centers (15 points);

• Emphasis on prevention to reduce complications and morbidity associated with hemophilia (5 points);

• Linkage of hemophilia treatment centers with primary care providers for children and adults served by the hemophilia treatment centers (5 points);

• Collaboration and coordination of services with State Title V Maternal and Child Health Programs; Ryan White Titles I, II, and III, HIV community-based organizations; State and local health agencies; Ryan White Title IV HIV comprehensive family-centered care projects, prevention, education and peer support activities; national and local consumer organizations, including the National Hemophilia Foundation and its Chapters (5 points);

• Evidence of formal patient choice and grievance policies and procedures (5 points);

• Participation in other significant activities, and a description of any involvement with factor replacement product programs (5 points).

• The extent to which (A) the project personnel are well qualified by training and/or experience for their roles in the project and the applicant organization has adequate facilities and personnel; and (B) there is a plan for management of the regional network of hemophilia diagnostic and treatment centers (15 points). In addressing this criterion please describe the following items:

• Regional program management;

• Fostering communication among and providing technical assistance and training to HTCs;

• Other significant regional activities;

• The extent to which the estimated cost to the government of the project is reasonable, considering the anticipated results (10 points).

• The strength of the project's plan for evaluation (10 points).

Additional criteria may be used to review and rank applications for this competition. Any such criteria will be identified in the program guidance included in the application kit. Applicants should pay strict attention to addressing these criteria, in addition to those referenced above. Also, to the extent that regulatory review criteria generally applicable to all Title V programs (at 42 CFR part 51a.5) are relevant to this specific project, such factors will be taken into account.

Paperwork Reduction Act

OMB approval for any data collection in connection with this grant will be sought, as required under the Paperwork Reduction Act of 1995.

Public Health System Reporting Requirements

This program is subject to the Public Health System Reporting Requirements (approved under OMB No. 0937-0195). Under these requirements, the community-based non-governmental applicant must prepare and submit a Public Health System Impact Statement (PHSIS). The PHSIS is intended to provide information to State and local health officials to keep them apprised of proposed health services grant applications submitted by community-based non-governmental organizations within their jurisdictions. The project abstract may be used in lieu of the one-page PHSIS.

Community-based non-governmental applicants are required to submit the following information to the head of the appropriate State and local health agencies in the area(s) to be impacted no later than the Federal application receipt due date:

(a) A copy of the face page of the application (SF 424).

(b) A summary of the project (PHSIS), not to exceed one page, which provides:

(1) A description of the population to be served.

(2) A summary of the services to be provided.

(3) A description of the coordination planned with the appropriate State and local health agencies.

Executive Order 12372

The MCH Federal Set-Aside program has been determined to be a program which is not subject to the provisions of Executive Order 12372 concerning intergovernmental review of Federal programs.

Dated: March 31, 2003.
Dennis P. Williams,
Deputy Administrator.

[FR Doc. 03-8336 Filed 4-4-03; 8:45 am]

BILLING CODE 4165-15-P